SECURITIES AND EXCHANGE COMMISSION

[Release No. 34-100509]

Availability of SEC Online Comment Form Option

AGENCY: Securities and Exchange Commission.

ACTION: Notice.

SUMMARY: Due to a technological error, members of the public who sought to submit a comment to the Securities and Exchange Commission (“Commission”) using the online comment form option on the Commission website may have received a message indicating that they were unable to complete a submission using the online form. The technological error, which occurred from May 30 until June 26, 2024, has been resolved. Interested parties that wish to submit a comment using the online comment form option may do so by visiting https://www.sec.gov/rules-regulations/how-submit-comment. Comments already received and posted on the Commission website need not be resubmitted.

FOR FURTHER INFORMATION CONTACT: J. Matthew DeLesDernier, Deputy Secretary, Office of the Secretary, at (202) 551-5400, Securities and Exchange Commission, 100 F Street NE, Washington, DC 20549-1090, or by email at rule-comments@sec.gov.

SUPPLEMENTARY INFORMATION: Due to a technological error, members of the public who sought to submit a comment to the Commission using the online comment form option on the Commission website from May 30 until June 26, 2024, may have received a message indicating that they were unable to complete a submission using the online form. The technological error affected online forms that can be used to submit comments on Commission rulemakings, self-regulatory organization matters, Public Company Accounting Oversight Board proposed rule changes, and other matters open for public comment. During the time that the online comment form option was unavailable, affected commenters were able to submit a comment by alternative means, such as by sending an email to rule-comments@sec.gov or by sending a paper comment to the Commission's mailing address at 100 F Street NE, Washington, DC, 20549-1090.

The technological error has been resolved. Interested parties that wish to submit a comment using the online comment form option may do so by visiting https://www.sec.gov/rules-regulations/how-submit-comment. Comments already received and posted on the Commission website need not be resubmitted. If members of the public have questions or concerns about whether their comment was received by the Commission, they should contact the Commission staff at the address, telephone number, or email address listed above.

By the Commission.¹
¹ Authority: 15 U.S.C. 78w(a)(3).
Dated: July 12, 2024.
J. Matthew DeLesDernier,
Deputy Secretary.

[FR Doc. 2024-15946 Filed 7-16-24; 4:15 pm]

BILLING CODE 8011-01-P